DEPARTMENT OF ENERGY

Federal Energy Regulatory Commission

[Project No. 12660-002]

TDX Power Services, LLC; Notice of Preliminary Permit Application Accepted for Filing and Soliciting Comments, Motions To Intervene, and Competing Applications

December 17, 2009.

On November 3, 2009, TDX Power Services, LLC filed an application for a preliminary permit, pursuant to section 4(f) of the Federal Power Act, proposing to study the feasibility of the Chakachamna Hydroelectric Project (Chakachamna Project or project), located on Chakachamna Lake, a natural lake, and the Chakachatna and MacArthur rivers about 40 miles west of the Native Village of Tyonek and 82 miles west of Anchorage in the Kenai Peninsula Borough, Alaska. The sole purpose of a preliminary permit, if issued, is to grant the permit holder priority to file a license application during the permit term. A preliminary permit does not authorize the permit holder to perform any land disturbing activities or otherwise enter upon lands or waters owned by others without the owners' express permission.

The proposed project would utilize the existing Chakachamna Lake and consist of the following: (1) A proposed 200-foot-long, 9-foot-high concrete flow-control weir at the natural lake outlet for the purpose of helping to control lake storage and downstream flow releases; (2) a proposed 26-foot-diameter submerged intake structure on Chakachamna Lake with a vertical shaft for gate control, located about 0.5 mile west-southwest of the natural lake outlet; (3) a proposed 10.8-mile-long, 21-foot-diameter hard-rock tunnel extending southeast from the intake to the powerhouse; (4) a proposed underground cavern-type powerhouse about 60 feet wide by 200 feet long housing three vertical axis Francis units with a total installed capacity of 300 megawatts; (5) a proposed 1,000-foot-long tailrace tunnel connecting the powerhouse to the MacArthur River; (6) a proposed 21-foot-diameter, 13,800-foot-long tunnel housing separate juvenile and adult fish passage channels and an access road—the tunnel would extend generally east from Chakachamna Lake to the Chakachatna River at a location about 1.5 miles downstream of the flow-control weir; (7) a proposed pool-and-chute fishway at the flow-control weir to facilitate upstream fish passage into Chakachamna Lake; (8) two proposed, 42-mile-long, 230-kilovolt (kV) transmission lines extending from the powerhouse to the Beluga substation; (9) an existing approximately 10-mile-long access road extending west from Cook Inlet to a point near Shirleyville; (10) an existing 20-mile-long access road extending west-northwest from near Shirleyville to the “Straight Creek Crossing;” (11) a proposed 20-mile-long access road extending from the Straight Creek Crossing to the intake; (12) a proposed 15-mile-long access road extending from the 20-mile-long access road to the powerhouse; (13) a proposed buried, 25-kV power cable extending 22 miles from the powerhouse to the intake and a proposed buried, 25-kV power cable extending from the powerhouse to adjacent camp facilities for workers; and (14) appurtenant facilities. The project would have an estimated average annual generation of 1,330 gigawatt-hours.

Applicant Contact: Nicholas Goodman, Manager, TDX Power Services, LLC, 4300 B Street, Suite 402, Anchorage, AK 99503; Phone: (907) 278-2312; e-mail: ngoodman@tdxpower.com.

FERC Contact: Nick Jayjack; Phone: (202) 502-6073; e-mail: Nicholas.Jayjack@ferc.gov.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of the Commission's Web site at http://www.ferc.gov/docs-filing/elibrary.asp. Enter the docket number (P-12660-002) in the docket number field to access the document. For assistance, call toll-free 1-866-208-3372.

Kimberly D. Bose,
Secretary.

[FR Doc. E9-30578 Filed 12-23-09; 8:45 am]

BILLING CODE 6717-01-P